DEPARTMENT OF THE INTERIOR

National Park Service

Notice of Extension of Concession Contract

AGENCY: National Park Service, Interior.

ACTION: Public notice.

DATES: Effective Date: January 1, 2013.

FOR FURTHER INFORMATION CONTACT: Jo A. Pendry, Chief, Commercial Services Program, National Park Service, 1201 Eye Street, NW., 11th Floor, Washington, DC 20005, Telephone 202/513-7156.

SUMMARY: Pursuant to 36 CFR 51.23, public notice is hereby given that the National Park Service proposes to extend the following concession contract for a period of two years through December 31, 2014.

SUPPLEMENTARY INFORMATION: The listed concession authorization will expire by its terms on December 31, 2012. The National Park Service has determined that the proposed short-term extension is necessary in order to avoid interruption of visitor services and has taken all reasonable and appropriate steps to consider alternatives to avoid such interruption.

Conc ID No. | Concessioner name | Park
DENA001-03 | Doyon/ARAMARK Denali National Park Concession Joint Venture | Denali National Park.

FOR FURTHER INFORMATION CONTACT: Jo A. Pendry, Chief, Commercial Services Program, National Park Service, 1201 Eye Street, NW., 11th Floor, Washington, DC 20005, Telephone 202/513-7156.

Dated: July 26, 2010.
Heidi M. Ernst,
Acting Associate Director, Business Services.

[FR Doc. 2010-21038 Filed 8-23-10; 8:45 am]

BILLING CODE 4312-53-P